DEPARTMENT OF ENERGY

Federal Energy Regulatory Commission

Kern River Gas Transmission Company; Notice of Compliance Filing

[Docket No. RP00-157-003]

May 4. 2000.

Take notice that on April 28, 2000, Kern River Gas Transmission Company (Kern River) tendered the following tariff sheets for filing as part of its FERC Gas Tariff, First Revised Volume No. 1, to be effective February 1, 2000.

Second Substitute Original Sheet No. 143

Second Substitute Original Sheet No. 144

Original Sheet No. 145

Original Sheet No. 146

Sheet Nos. 147-199 (Reserved)

Kern River states that the purpose of this filing is comply with the Commission's April 13, 2000 Order in this proceeding, which directed Kern River to revise certain language related to the bid evaluation and award criteria for negotiated rate bids.

Kern River states that it has served a copy of this filing upon each person designated on the official service list compiled by the Secretary in this proceeding.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11617 Filed 5-9-00; 8:45 am]

BILLING CODE 6717-01-M